DEPARTMENT OF ENERGY

Federal Energy Regulatory Commission

[Project No. 2232-428]

Duke Energy Corporation; Notice of Availability of Environmental Assessment

October 15, 2003.

In accordance with the National Environmental Policy Act of 1969 and the Federal Energy Regulatory Commission's (Commission) regulations, 18 CFR Part 380 (Order No. 486, 52 F.R. 47897), the Office of Energy Projects' staff has prepared an Environmental Assessment (EA) for an application requesting Commission approval for a revised Shoreline Management Plan (SMP). The proposed SMP is intended to supercede the approved SMP including the classification maps. The EA addresses proposed revisions to SMP for the Catawba-Wateree Project. The SMP and maps address the allowable uses of 1,727 miles of shoreline for the 11 project reservoirs located in North Carolina and South Carolina.

The EA contains the staff's analysis of the potential environmental impacts of the proposal and concludes that approval of the proposal would not constitute a major federal action significantly affecting the quality of the human environment.

A copy of the EA is attached to a Commission order titled “Order Granting and Modifying Revised Shoreline Management Plan” (which is available for review at the Commission in the Public Reference Room, or it may be viewed on the Commission's Web site at http://www.ferc.gov using the “elibrary” link. Enter the docket number (prefaced by P-) and excluding the last three digits, in the docket number field to access the document. For assistance, call (866) 208-3676, or (202) 502-8659 (for TTY).

For further information, contact Brian Romanek at 202-502-6175.

Linda Mitry,
Acting Secretary.

[FR Doc. E3-00087 Filed 10-21-03; 8:45 am]

BILLING CODE 6717-01